DEPARTMENT OF THE TREASURY

Bureau of Alcohol, Tobacco and Firearms

Privacy Act of 1974, as Amended

AGENCY: Bureau of Alcohol, Tobacco and Firearms, Treasury.

ACTION: Notice of systems of records.

SUMMARY: In accordance with the requirements of the Privacy Act of 1974, as amended, 5 U.S.C. 552a, The Bureau of Alcohol, Tobacco and Firearms is publishing its inventory of Privacy Act systems of records.

SUPPLEMENTARY INFORMATION: Pursuant to the Privacy Act of 1974 (5 U.S.C. 552a) and the Office of Management and Budget (OMB) Circular No. A-130, the Bureau of Alcohol, Tobacco and Firearms (ATF) has completed a review of its Privacy Act systems of records notices to identify minor changes to those notices.

A purpose(s) statement has been added to the following system notices: ATF .001-Administrative Record System; ATF .002-Correspondence Record System, and ATF .007-Personnel Record System. In addition, language has been added under “storage” to ATF .001 and ATF .002-Correspondence Record System to reflect the use of electronic media.

The data elements enumerated under “categories of records” in ATF .008-Regulatory Enforcement Record System, and ATF .009-Technical and Scientific Services Record System have been updated to include additional elements which fall within the scope of the existing categories.

Under “safeguards” language has been added to each ATF system notices to reflect that records maintained in electronic format are password protected.

Other changes throughout the document are editorial in nature and consist principally of changes to system locations and system manager addresses.

The following system of records has been removed from ATF's inventory of Privacy Act systems: ATF .005-Freedom of Information Requests (Published December 3, 1999, at 64 FR 67966), and ATF .006-Internal Security Record System (Published December 14, 2000, at 65 FR 78261).

The systems notices are reprinted in their entirety following the Table of Contents.

Systems Covered by This Notice: This notice covers all systems of records adopted by ATF up to June 29, 2001.

Dated: August 20, 2001.
W. Earl Wright, Jr.,
Chief Management and Administrative Programs Officer.

Table of Contents

ATF .001—Administrative Record System

ATF .002—Correspondence Record System

ATF .003—Criminal Investigation Report System

ATF .007—Personnel Record System

ATF .008—Regulatory Enforcement Record System

ATF .009—Technical and Scientific Services Record System

Bureau of Alcohol, Tobacco and Firearms (ATF)

Treasury/ATF .001

System name:

Administrative Record System-Treasury/ATF.

System location:

Bureau of Alcohol, Tobacco and Firearms, 650 Massachusetts Avenue, NW., Washington, DC 20226. Components of this record system are geographically dispersed throughout the Bureau's field offices. A list of field offices is available by writing to the Chief, Disclosure Division, Room 8400, 650 Massachusetts Avenue, NW., Washington, DC 20226.

Categories of individuals covered by the system:

(1) Present employees of the Bureau of ATF. (2) Former employees of the Bureau of ATF. (3) Claimants against the Bureau of ATF.

Categories of records in the system:

(1) Accident Report—vehicle; (2) Fatality reports; (3) Injury reports; (4) Chief Counsel and District Counsel memoranda and opinions.

Authority for maintenance of the system:

(1) Federal Claims Collection Act. (2) Federal Property and Administration Services Act of 1949, as amended. (3) Federal Tort Claims Act. (4) Military Personnel and Civilian Claim Act. (5) Occupational Safety and Health Act of 1970. (6) Small Claims Act. (7) 5 U.S.C. 1302, 3301, 3302.

Purpose:

The purpose of this system is to resolve claims submitted to the Bureau of Alcohol, Tobacco and Firearms.

Routine uses of records maintained in the system, including categories of users and the purposes of such uses:

A record in this system may be disclosed as a routine use to: (1) Employees of government agencies when required or authorized to be released by statute, regulations or Executive Order; (2) any third party, to the extent necessary, to collect relevant information from the third party, provided that the information is needed by the Bureau to render a decision in regard to an administrative matter; (3) appropriate Federal, state, local or foreign agencies responsible for enforcing administrative, civil or criminal laws; hiring or retention of an employee; issuance of a security clearance, license, contract, grant or other benefit; (4) a court, magistrate or administrative tribunal in the course of presenting evidence, including disclosures to opposing counsel or witnesses in the course of or in preparation for civil discovery, litigation, or settlement negotiations, in response to a subpoena, or in connection with criminal law proceedings; (5) unions recognized as exclusive bargaining representatives in accordance with provisions contained in the Civil Service Reform Act of 1978, 5 U.S.C. 7111 and 7114; (6) a congressional office in response to an inquiry made at the request of the individual to whom the record pertains; (7) provide information to the news media in accordance with guidelines contained in 28 CFR 50.2 which relate to an agency's functions relating to civil and criminal proceedings.

Policies and practices for storing, retrieving, accessing, retaining, disposing of records in the system:

Storage:

Active records stored in file folders in security filing cabinets. Inactive records stored in file folders at Federal Records Centers. Records are also stored in electronic media.

Retrievability:

Records are retrievable by name of individual.

Safeguards:

Direct access restricted to personnel in Department of the Treasury in the performance of their duty. Transmitted to routine users on a “need to know” basis or where “a right to access” is established, and to others upon verification of the substance and propriety of the request. Stored in lockable metal file cabinets in rooms locked during non-duty hours. The records stored in electronic media are password protected.

Retention and disposal:

Records are retained in accordance with General Records Schedules Numbers 1 through 23 issued by the National Archives and Records Administration, and Bureau of Alcohol, Tobacco and Firearms records control schedules numbers 101 and 201 and disposed of by shredding or burning.

System manager(s) and address:

Assistant Director, Office of Management/Chief Financial Officer, Bureau of Alcohol, Tobacco and Firearms, 650 Massachusetts Avenue, NW., Washington, DC 20226.

Notification procedure:

Inquiries should be addressed to: Privacy Act Request, Bureau of Alcohol, Tobacco and Firearms, 650 Massachusetts Avenue, NW., Washington, DC 20226. Requests may be delivered personally to Room 8400, Bureau of Alcohol, Tobacco and Firearms, 650 Massachusetts Avenue, NW., Washington, DC 20226.

Record access procedures:

Requests for access to records made by mail should be addressed to: Privacy Act Request, Bureau of Alcohol, Tobacco and Firearms, 650 Massachusetts Avenue, NW., Washington, DC 20226.

Contesting record procedures:

See “Record access procedures” above.

Record source categories:

(1) Administrative records. (2) Claimants. (3) Doctors. (4) Employee records. (5) Fiscal records. (6) Former employees of the Bureau of ATF. (7) Former employers. (8) General Services Administration. (9) Individuals who have information relevant to claims. (10) Inspections records. (11) Internal Investigation reports. (12) Police reports. (13) Present employees of the Bureau of ATF. (14) Supervisors. (15) Witnesses. (16) Insurance companies.

Exemptions claimed for the system:

None.

Treasury/ATF .002

System name:

Correspondence Record System-Treasury/ATF.

System location:

Bureau of Alcohol, Tobacco and Firearms, 650 Massachusetts Avenue NW., Washington, DC 20226. Components of this record system are geographically dispersed throughout the Bureau's field offices. A list of field offices is available by writing to the Chief, Disclosure Division, Room 8400, 650 Massachusetts Avenue, NW., Washington, DC 20226.

Categories of individuals covered by the system:

(1) Persons who correspond with the Bureau requesting information relating to Bureau personnel. (2) Persons who correspond with the Bureau requesting information relating to Bureau activities. (3) Persons who correspond with the Bureau requesting rulings, interpretations, or technical and scientific matters of a general nature. (4) Persons who correspond with others and whose correspondence is referred to ATF for response. (5) Persons referred to in correspondence with the Bureau. (6) Authors and publishers of technical and scientific matters relating to Bureau activities.

Categories of records in the system:

Correspondence with individuals who contact the Bureau requesting information relating to Bureau personnel and/or activities, Chief Counsel and Regional Counsel memoranda and opinions.

Authority for maintenance of the system:

5 U.S.C. 301, Executive Order 11222.

Purpose:

The purpose of this system is to respond to inquiries from the public and Congress.

Routine uses of records maintained in the system, including categories of users and the purposes of such uses:

A record in this system may be disclosed as a routine use to: (1) Employees of government agencies when required or authorized to be released by statute, regulations or Executive Order; (2) any third party, to the extent necessary, to collect relevant information from the third party, provided that the information is needed by the Bureau to render a decision in regard to an administrative, fiscal or personnel matter; (3) appropriate Federal, state, local or foreign agencies responsible for enforcing administrative, civil or criminal laws; hiring or retention of an employee; issuance of a security clearance, license, contract, grant or other benefit; (4) a court, magistrate or administrative tribunal in the course of presenting evidence, including disclosures to opposing counsel or witnesses in the course of or in preparation for civil discovery, litigation, or settlement negotiations, in response to a subpoena, or in connection with criminal law proceedings; (5) a congressional office in response to an inquiry made at the request of the individual to whom the record pertains; (6) provide information to the news media in accordance with guidelines contained in 28 CFR 50.2 which relate to an agency's functions relating to civil and criminal proceedings.

Policies and practices for storing, retrieving, accessing, retaining, disposing of records in the system:

Storage:

Active records stored in file folders in security filing cabinets. Records are also stored in electronic media.

Retrievability:

Records are retrieved by name, subject matter and date of correspondence.

Safeguards:

Transmitted to routine users on a “need to know” basis. Stored in lockable file cabinets in rooms locked during non-duty hours. The records stored in electronic media are password protected.

Retention and disposal:

Records are retained in accordance with General Records Schedules numbers 1 through 20 issued by the National Archives and Records Administration, and Bureau of Alcohol, Tobacco and Firearms Records Control Schedules numbers 101 and 201 and disposed of by shredding or burning.

System manager(s) and address:

Assistant Director, Liaison and Public Information, Bureau of Alcohol, Tobacco and Firearms, 650 Massachusetts Avenue, NW., Washington, DC 20226.

Notification procedure:

Inquiries should be addressed to: Privacy Act Request, Bureau of Alcohol, Tobacco and Firearms, 650 Massachusetts Avenue, NW., Washington, DC 20226. Requests may be delivered personally to Room 8400, Bureau of Alcohol, Tobacco and Firearms, 650 Massachusetts Avenue, NW., Washington, DC 20226.

Record access procedures:

Requests for access to records made by mail should be addressed to: Privacy Act Request, Bureau of Alcohol, Tobacco and Firearms, 650 Massachusetts Avenue, NW., Washington, DC 20226. Requests may be delivered personally to Room 8400, Bureau of Alcohol, Tobacco and Firearms, 650 Massachusetts Avenue, NW., Washington, DC 20226. Appeals may be delivered personally to Room 8400, Bureau of Alcohol, Tobacco and Firearms, 650 Massachusetts Avenue, NW., Washington, DC 20226.

Contesting record procedures:

See “Record access procedures” above.

Record source categories:

Persons who correspond with the Bureau on general, technical or scientific matters.

Exemptions claimed for the system:

None.

Treasury/ATF .003

System name:

Criminal Investigation Report System-Treasury/ATF.

System location:

Bureau of Alcohol, Tobacco and Firearms, 650 Massachusetts Avenue, NW., Washington, DC 20226. Components of this record system are geographically dispersed throughout Bureau of Alcohol, Tobacco and Firearms' field offices. A list of field offices is available by writing to the Chief, Disclosure Division, Room 8400, 650 Massachusetts Avenue, NW., Washington, DC 20226.

Categories of individuals covered by the system:

(1) Criminal offenders or alleged criminal offenders acting alone or in concert with other individuals and suspects who have been or are under investigation for a violation or suspected violation of laws enforced by the Bureau. (2) Criminal offenders or alleged criminal offenders acting alone or in concert with individuals who have been referred to the Bureau of Alcohol, Tobacco and Firearms by other law enforcement agencies, governmental units and the general public. (3) Informants. (4) Persons who come to the attention of the Bureau in the conduct of criminal investigations. (5) Persons who have been convicted of a crime punishable by imprisonment for a term exceeding one year and who have applied for relief from disabilities under Federal law with respect to the acquisition, receipt, transfer, shipment, or possession of firearms and explosives and whose disability was incurred by reason of such conviction. (6) Victims of crimes. (7) Witnesses.

Categories of records in the system:

(a) Records containing information compiled for the purpose of identifying individual criminal offenders and alleged offenders and consisting only of identifying data and notations of arrest, the nature and disposition of criminal charges, sentencing, confinement, release, and parole and probation status; (b) Records containing information compiled for the purpose of a criminal investigation, including reports of informants and investigators, and associated with an identifiable individual; (c) Records containing reports identifiable to an individual compiled at various stages of the process of enforcement of criminal laws from arrest or indictment through release from supervision; (d) Records compiled and maintained by the Bureau as generally described in (a), (b), and (c) above including the following: (1) Abandoned property reports. (2) ATF Criminal Investigation Reports. (3) ATF referrals to foreign, Federal, state, and local law enforcement agencies. (4) Chief and Regional Counsel opinions. (5) Contemporaneous investigative notes. (6) Criminal investigatory correspondence from and to foreign, Federal, state and local law enforcement agencies. (7) Criminal intelligence information on individuals suspected to be violating ATF laws and regulations. (8) Documentary proof of defendant's criminal record, identity, or lack of registration of N.F.A. (as amended) firearm(s). (9) FBI Criminal Record Reports. (10) Fingerprints and palmprints. (11) Fugitive arrest warrants. (12) Handwriting exemplars. (13) Index cards, violation and reputation. (14) Illicit liquor and raw material surveys. (15) Laboratory reports of evidence analysis. (16) Memoranda of expected testimony of witnesses. (17) Organized crime members violating or suspected of violating ATF laws. (18) Parole and pardon reports. (19) Personal histories (address, employment, social security number, financial background, physical description, etc.). (20) Photographs. (21) Purchase of evidence records. (22) Records of electronic surveillance by ATF. (23) Records received in response to summons and subpoenas. (24) Reliefs from disability. (25) Reports of interview with witnesses. (26) Search warrants and affidavits for search warrants. (27) Seized property reports. (28) Significant criminals, armed and dangerous, firearms, explosives and liquor. (29) Special agent's daily activity diary (accessible by date only). (30) State and local law enforcement criminal investigative reports. (31) Statements of defendants. (32) Statements of witnesses. (33) Summons and subpoenas issued pursuant to criminal investigations. (34) Voice prints. (35) Wagering tax suspected violators. (36) Warning and demand letters. (37) Criminal violation reports (a formal report compiling all or portions of the foregoing for prosecutive purposes).

Authority for maintenance of the system:

(1) 26 U.S.C. Chapters 35 and 40; (2) 26 U.S.C. Chapters 51 and 52; (3) 26 U.S.C. Chapter 53, as amended; (4) 26 U.S.C. Chapters 61 through 80, as amended; (5) 27 U.S.C. Chapter 8, as amended (Federal Alcohol Administration Act); (6) 18 U.S.C. Chapter 40; (7) 18 U.S.C. Chapter 44; (8) 18 U.S.C. Chapter 59; (9) 18 U.S.C. App. 1201-1203 (Title VII of the Omnibus Crime Control and Safe Streets Act of 1968, as amended by Title III of the Gun Control Act of 1968); (10) 22 U.S.C. section 414, (Mutual Security Act of 1954, as amended); (11) 5 U.S.C. sections 901 and 903, 5 U.S.C. App. (Reorganization Plan of 1950), Treasury Order 221, 5 U.S.C. section 301.

Purpose(s):

The purpose of this system is to suppress traffic in illicit untaxpaid distilled spirits; to enforce the Federal laws relating to the illegal possession and use of firearms, destructive devices, explosives, explosive materials; and to assist Federal, state, local and foreign law enforcement agencies in reducing crime and violence.

Routine uses of records maintained in the system, including categories of users and the purposes of such uses:

A record in this system may be disclosed as a routine use to: (1) Employees of other government agencies when required or authorized to be released by statute, regulations or Executive Order; (2) third parties during the course of an investigation to the extent necessary to obtain information pertinent to the investigation; (3) appropriate Federal, state, local and foreign agencies for the purpose of enforcing and investigating administrative, civil or criminal laws relating to the hiring or retention of an employee; issuance of security clearance, license, contract, grant or other benefit; (4) a court, magistrate, or administrative tribunal in the course of presenting evidence, including disclosures to opposing counsel or witnesses in the course of or in preparation for civil discovery, litigation, or settlement negotiations, in response to a subpoena, or in connection with criminal law proceedings; (5) INTERPOL and similar criminal intelligence gathering organizations for the purpose of identifying and suppressing the activities of international and national criminals and terrorists; (6) appropriate Federal, state, local or foreign agencies responsible for investigating or prosecuting the violations of, or for enforcing or implementing, a statute, rule, regulation, order, or license, where the disclosing agency becomes aware of an indication of a violation or potential violation of civil or criminal law or regulation; (7) insurance companies making determinations regarding claims in cases that the Bureau has conducted or is conducting an arson investigation; (8) a congressional office in response to an inquiry of the individual to whom the record pertains; (9) unions recognized as exclusive bargaining representatives in accordance with provisions contained in the Civil Service Reform Act of 1978, 5 U.S.C. 7111 and 7114; (10) provide information to the news media in accordance with guidelines contained in 28 CFR 50.2 which relate to an agency's functions relating to civil and criminal proceedings.

Policies and practices for storing, retrieving, accessing, retaining, disposing of records in the system:

Storage:

Active records stored in file folders in security filing cabinets. Inactive records stored in file folders at Federal Records Centers. Records also stored in electronic media.

Retrievability:

Records are retrievable by name, date of birth, social security number, unique identifier, investigation number, serial number of firearm, or a combination of any of these; plus date and geographical location of incident giving rise to investigation.

Safeguards:

Direct access restricted to personnel in Department of Treasury in the performance of their duty. Transmitted to routine users on a “need to know” basis and to others upon verification of the substance and propriety of the request. Stored in lockable file cabinets in rooms locked during non-duty hours. The records stored in electronic media are password protected.

Retention and disposal:

Records are retained in accordance with General Records Schedules numbers 1 through 23 issued by the National Archives and Records Administration, and Bureau of Alcohol, Tobacco and Firearms Records Control Schedules numbers 101 and 201 and disposed of by shredding or burning. Records on tape or on-line mass storage are disposed of by degaussing.

System manager(s) and address:

Assistant Director, Firearms Explosive & Arson; Assistant Director, Alcohol and Tobacco; Assistant Director, Field Operations; and Assistant Director, Science & Technology, Bureau of Alcohol, Tobacco and Firearms, 650 Massachusetts Avenue, NW., Washington, DC 20226.

Notification procedure:

The Director of the Bureau of Alcohol, Tobacco and Firearms has exempted this system of records from compliance with the provisions of 5 U.S.C. 552a (e)(4)(G).

Record access procedures:

The Director of the Bureau of Alcohol, Tobacco and Firearms has determined this system of records to be exempt from compliance with the provisions of 5 U.S.C. 552a (e)(4)(H).

Contesting record procedures:

The Director of the Bureau of Alcohol, Tobacco and Firearms has determined this system of records to be exempt from compliance with the provisions of 5 U.S.C. 552a (e)(4)(H).

Record source categories:

The Director of the Bureau of Alcohol, Tobacco and Firearms has determined this system of records to be exempt from compliance with the provisions of 5 U.S.C. 552a (e)(4)(I).

Exemptions claimed for the system:

Exempt under 5 U.S.C. 552a (j)(2). See 31 CFR 1.36.

Treasury/ATF .007

System name:

Personnel Record System-Treasury/ATF.

System location:

Bureau of Alcohol, Tobacco and Firearms, 650 Massachusetts Avenue, NW., Washington, DC 20226. Components of this record system are geographically dispersed throughout the Bureau's field offices. A list of field offices is available by writing to the Chief, Disclosure Division, Room 8400, 650 Massachusetts Avenue, NW., Washington, DC 20226.

Categories of individuals covered by the system:

(1) Present Employees of the Bureau of ATF. (2) Former Employees of the Bureau of ATF. (3) Applicants for employment with ATF.

Categories of records in the system:

(1) Allotment and Dues. (2) Annual Tax Reports. (3) Applicants for employment. (4) Applications for reassignment. (5) Awards, honors, and fellowship records. (6) Classification appeal records. (7) Death claim records. (8) Educational history. (9) Employee indebtedness records. (10) Employees qualified as Grievance Examiners. (11) Employee Suggestions. (12) Employee history. (13) Employee relations case file. (14) Equal employment opportunity records. (15) Health maintenance records. (16) Insurance records. (17) Military history. (18) Occupational injuries, disabilities, and Worker's Compensation Records. (19) Official personnel folder. (20) Outside employment and identification numbers, business or professional records. (21) Outside employment. (22) Outside financial interests. (23) Overtime and/or Premium Pay records. (24) Performance evaluation records. (25) Personal history. (26) Position description records. (27) Promotion/Selection Certificates Records. (28) Property custody records. (29) Retirement records. (30) Records of security clearance. (31) Statement of career goals. (32) Supervisory or managerial potential records. (33) Temporary assignments and details. (34) Time application reports and records. (35) Training record. (36) U.S. Savings Bond participation records. (37) Upward mobility applications. (38) Vehicle accidents. (39) Withholding tax records. (40) Work schedule records. (41) Chief Counsel and Regional Counsel memoranda and opinions. (42) Government passport records.

Authority for maintenance of the system:

(1) 5 U.S.C. Chapter 29, Subchapter II. (2) 5 U.S.C. Chapters 31 and 33. (3) 5 U.S.C. Chapter 43. (4) 5 U.S.C. Chapter 45. (5) 5 U.S.C. Chapter 51. (6) 5 U.S.C. Chapter 55, subchapter III. (7) 5 U.S.C. Chapter 61. (8) 5 U.S.C. Chapter 75. (9) 5 U.S.C. Chapter 83. (10) 5 U.S.C. Section 301; 31 C.F.R. 2.28; 5 C.F.R. 550.122, 550.183. (11) 5 U.S.C. 4503. (12) 5 U.S.C. Section 5101-5115. (13) 5 U.S.C. Section 7151-7154. (14) 5 U.S.C. Section 7901. (15) Public Law 92-261 (Equal Employment Act of 1972). (16) Public Law 93-579. (Federal Employees Compensation Act). (17) Occupational Safety and Health Act of 1970. (18) Executive Order 10561. (19) Executive Order 11222. (20) Executive Order 11478. (21) Executive Order 11491.

Purpose:

The purpose of this system is to provide the basic source of factual data about a person's Federal employment while in the service of the Bureau of Alcohol, Tobacco and Firearms.

Routine uses of records maintained in the system, including categories of users and the purposes of such uses:

A record in this system may be disclosed as a routine use to:

(1) Employees of government agencies when required or authorized to be released by statute, regulations or Executive Order; (2) any third party, to the extent necessary, to collect relevant information from the third party, provided that the information is needed by the Bureau to render a decision in regard to a personal matter; (3) appropriate Federal, state, local or foreign agencies responsible for enforcing administrative, civil, or criminal laws; hiring or retention of an employee; issuance of a security clearance, license, contract, grant or other benefit; (4) a court, magistrate, or administrative tribunal in the course of presenting evidence, including disclosures to opposing counsel or witnesses in the course of or in preparation for civil discovery, litigation, or settlement negotiations, in response to a subpoena, or in connection with criminal law proceedings; (5) unions recognized as exclusive bargaining representatives in accordance with provisions contained in the Civil Service Reform Act of 1978, 5 U.S.C. 7111 and 7114; (6) a congressional office in response to an inquiry made at the request of the individual to whom the record pertains; (8) provide information to the news media in accordance with guidelines contained in 28 CFR 50.2 which relate to an agency's functions relating to civil and criminal proceedings.

Policies and practices for storing, retrieving, accessing, retaining, disposing of records in the system:

Storage:

Active records stored in file folders in security filing cabinets. Inactive records stored in file folders at Federal Records Centers. Records also stored in electronic media.

Retrievability:

Records are retrievable by name, date of birth, social security number, employee identification number, or a combination of any of these four.

Safeguards:

Direct access restricted to personnel in Department of Treasury in the performance of their duty. Transmitted to routine users on a “need to know” basis or where “a right to access” is established, and to others upon verification of the substance and propriety of the request. Stored in lockable file cabinets in rooms locked during non-duty hours. The records stored in electronic media are password protected.

Retention and disposal:

Records are retained in accordance with General Records Schedules numbers 1 through 23 issued by the National Archives and Records Administration, and Bureau of Alcohol, Tobacco and Firearms Records Control Schedules numbers 101 and 201 and disposed of by shredding, burning or by degaussing.

System manager(s) and address:

Assistant Director, Office of Science and Technology; Assistant Director, Liaison and Public Information; and Assistant Director, Management/Chief Financial Officer, Bureau of Alcohol, Tobacco and Firearms, 650 Massachusetts Avenue, NW, Washington, DC 20226.

Notification procedure:

The Director of the Bureau of Alcohol, Tobacco and Firearms has exempted this system of records from compliance with the provisions of 5 U.S.C. 552a (e)(4)(G).

Record access procedures:

The Director of the Bureau of Alcohol, Tobacco and Firearms has exempted this system of records from compliance with the provisions of 5 U.S.C. 552a (e)(4)(H).

Contesting record procedures:

See “Record access procedures” above.

Record source categories:

(1) Administrative Records. (2) Applicants for employment with the Bureau. (3) Acquaintances. (4) Business and professional associates. (5) Creditors. (6) Criminal records. (7) Educational Institutions attended. (8) Employee records. (9) Equal Employment Opportunity Commission. (10) Financial institutions. (11) Fiscal records. (12) Former employees. (13) Former employers. (14) Inspection records. (15) Internal investigation reports. (16) Internal Revenue Service. (17) Military records. (18) Outside employers. (19) Physicians. (20) Police reports. (21) Position classification specialists. (22) Psychiatrists. (23) References. (24) Supervisors. (25) Training officers. (26) Unions, accredited. (27) Office of Personnel Management. (28) Witnesses.

Exemptions claimed for the system:

Exempt under 5 U.S.C. 552a (k)(5). See 31 CFR 1.36.

Treasury/ATF .008

System name:

Regulatory Enforcement Record System-Treasury/ATF.

System location:

Bureau of Alcohol, Tobacco and Firearms, 650 Massachusetts Avenue, NW, Washington, DC 20226. Components of this system of records are also geographically dispersed throughout ATF's district and field offices. A list of field offices is available by writing to the Chief, Disclosure Division, Room 8400, 650 Massachusetts Avenue, NW, Washington, DC 20226.

Categories of individuals covered by the system:

Individuals who have been issued permits or licenses, have filed applications with ATF, or have registered with ATF including:

(a) Alcohol licensees; (b) Claimants for refund, abatement, credit, allowance or drawback of excise or special occupational taxes; (c) Federal Firearms Licenses (d) Collectors of firearms or ammunition; (e) Importers of firearms or ammunition, and (f) Users of explosive materials.

Categories of records in the system:

Records containing investigative material compiled for law enforcement purposes which may consist of the following: (1) Abstracts of offers in compromise. (2) Administrative law judge decisions. (3) Assessment records: (a) notices of proposed assessments. (b) notices of shortages or losses. (c) notices to IRS to assess taxes. (d) recommendation for assessments. (4) Claim records: (a) claims. (b) letters of claim rejection. (c) sample reports. (d) supporting data. (e) vouchers and schedules of payment. (5) Comments on proposed rulemakings. (6) Complaints from third parties. (7) Correspondence concerning records in this system and related matters. (8) Financial statements. (9) Inspection and investigation reports. (10) Joint demands on principals and sureties for payment of excise tax liabilities. (11) Letters of reprimand. (12) Lists of permittees and licensees. (13) Lists of officers, directors and principal stockholders. (14) Mailing lists and addressograph plates. (15) Notices of delinquent reports. (16) Offers in compromise. (17) Operation records: (a) operating reports. (b) reports of required inventories. (c) reports of thefts or losses of firearms-who maintains records. (d) reports of thefts of explosive materials-who maintains records. (e) transaction records. (f) transaction reports. (18) Orders of revocation, suspension or annulment of permits or licenses. (19) District and Chief Counsel opinions and memoranda. (20) Reports of violations. (21) Permit status records. (22) Qualifying records: (a) access authorizations. (b) advertisement records. (c) applications. (d) bonds. (e) business histories. (f) criminal records. (g) diagrams of premises. (h) educational histories. (I) employment histories. (j) environmental records. (k) financial data. (l) formula approvals. (m) label approvals. (n) licenses. (o) notices. (p) permits. (q) personal references. (r) plant profiles. (s) plant capacities. (t) plats and plans. (u) registrations. (v) sample reports. (w) signature authorities. (x) special permissions and authorizations. (y) statements of process. (23) Show cause orders. (24) Tax records: (a) control cards relating to periodic payment and prepayment of taxes. (b) excise and special tax returns. (c) notices of tax discrepancy or adjustment.

Authority for maintenance of the system:

(1) 26 U.S.C. 5172. (2) 26 U.S.C. 5271(b)(1). (3) 26 U.S.C. 5356. (4) 26 U.S.C. 5401. (5) 26 U.S.C. 5417. (6) 26 U.S.C. 5502(b). (7) 26 U.S.C. 5511(3). (8) 26 U.S.C. 5521(a). (9) 26 U.S.C. 5179(a). (10) 22 U.S.C. 204(c). (11) 26 U.S.C. 5105. (12) 26 U.S.C. 5275. (13) 26 U.S.C. 5301(b). (14) 26 U.S.C. 5132. (15) 26 U.S.C. 5042(a)(2). (16) 26 U.S.C. 7011. (17) 26 U.S.C. 5712. (18) 18 U.S.C. 923(a). (19) 18 U.S.C. 923(b). (20) 18 U.S.C. 843(a). (21) 22 U.S.C. 414. (22) 26 U.S.C. 4401(a). (23) 26 U.S.C. 6001. (24) 26 U.S.C. 6011(a). (25) 26 U.S.C. 5001. (26) 26 U.S.C. 5021-5023. (27) 26 U.S.C. 5041. (28) 26 U.S.C. 5051. (29) 26 U.S.C. 6201. (30) 26 U.S.C. 5008. (31) 26 U.S.C. 5044. (32) 26 U.S.C. 5056. (33) 26 U.S.C. 5705. (34) 26 U.S.C. 6423(b). (35) 26 U.S.C. 5009(a). (36) 26 U.S.C. 5006(a). (37) 26 U.S.C. 5055. (38) 26 U.S.C. 5062(c). (39) 26 U.S.C. 5106. (40) 26 U.S.C. 5131(c). (41) 26 U.S.C. 5064. (42) 26 U.S.C. 7122. (43) 27 U.S.C. 207. (44) 18 U.S.C. 843(d). (45) 18 U.S.C. 923(f). (46) 27 U.S.C. 204(e). (47) 26 U.S.C. 5312(a). (48) 26 U.S.C. 5042(a)(3). (49) Reorganization Act of 1949, 5 U.S.C. Sections 901 et seq.; Revenue Act of 1951, Section 616; Treasury Department Order 221 (37 F.R. 11696, dated June 19, 1972). (50) 5 U.S.C. 301. (51) 26 U.S.C. 5181.

Purpose(s):

The purpose of this system is to determine suitability, eligibility or qualifications of individuals who are engaged or propose to engage in activities regulated by ATF; achieve compliance with laws under ATF's jurisdiction; assure full collection of revenue due from legal industries; eliminate commercial bribery, consumer deception and other improper trade practices in the distilled spirits, beer and wine industries; interact with Federal, state and local governmental agencies in the resolution of problems relating to industrial development, revenue protection, public health, ecology, and other areas of joint jurisdictional concern. When a criminal investigation results in a compilation of information contained in this system of records, the information shall be transferred to the Treasury ATF—Criminal Investigation Report System and shall become part of that system for all purposes of the Privacy Act of 1974.

Routine uses of records maintained in the system, including categories of users and the purposes of such uses:

A record in this system may be disclosed as a routine use to: (1) Employees of other governmental agencies when required or authorized to be released by statute, regulations or Executive Order; (2) any third party to the extent necessary to collect or verify information pertinent to the Bureau's decision to grant, deny or revoke a license or permit; to initiate or complete an investigation of violations or alleged violations of laws and regulations administered by the Bureau; (3) appropriate Federal, state, local or foreign agencies for the purpose of enforcing administrative, civil or criminal laws; hiring or retention of an employee; issuance of a security clearance, license, contract, grant or other benefit; (4) a court, magistrate, or administrative tribunal in the course of presenting evidence, including disclosures to opposing counsel or witnesses in the course of or in preparation for civil discovery, litigation, or settlement negotiations, in response to a subpoena, or in connection with criminal law proceedings; (5) INTERPOL and similar national and international intelligence gathering organizations for the purpose of identifying international and national criminals involved in consumer fraud, revenue evasion or crimes; (6) foreign governments in accordance with formal or informal international agreements; (7) appropriate Federal, State, local or foreign agencies responsible for investigating or prosecuting the violations of, or for enforcing or implementing, a statute, rule, regulation, order, or license, where the disclosing agency becomes aware of an indication of a violation or potential violation of civil or criminal law or regulation; (8) a congressional office in response to an inquiry made at the request of the individual to whom the record pertains; (10) provide information to the news media in accordance with guidelines contained in 28 CFR 50.2 which relate to an agency's functions relating to civil and criminal proceedings.

Policies and practices for storing, retrieving, accessing, retaining, disposing of records in the system:

Storage:

Active records stored in file folders in filing cabinets and in electronic media.

Retrievability:

Records are retrievable by name, permit or license number, by document locator number, or by employer identification number (EIN).

Safeguards:

Direct access restricted to personnel in the Department of Treasury in the performance of their duty. Transmitted to routine users on a “need to know” basis and others upon verification of the substance and propriety of the request. Stored in file cabinets in rooms locked during non-duty hours. The records stored in electronic media are password protected.

Retention and disposal:

Records are retained in accordance with General Records Schedules numbers 1 through 20 issued by the National Archives and Records Administration, and Bureau of Alcohol, Tobacco and Firearms Records Control Schedules numbers 101 and 201 and disposed of by shredding, burning or by degaussing.

System manager(s) and address:

Assistant Director, Firearms Explosive & Arson; Assistant Director, Alcohol and Tobacco; Assistant Director, Field Operations; and Assistant Director, Science & Technology, Bureau of Alcohol, Tobacco and Firearms, 650 Massachusetts Avenue, NW., Washington, DC 20226.

Notification procedure:

The Director of the Bureau of Alcohol, Tobacco and Firearms has determined this system of records to be exempt from compliance with the provisions of 5 U.S.C. 552a (e)(4)(G).

Record access procedures:

The Director of the Bureau of Alcohol, Tobacco and Firearms has determined this system of records to be exempt from compliance with the provisions of 5 U.S.C. 552a (e)(4)(H).

Contesting record procedures:

See “Record access procedures” above.

Record source categories:

(1) Acquaintances. (2) Bureau Personnel. (3) Business and Professional Associates. (4) Creditors. (5) Criminal Records. (6) Financial Institutions. (7) Former Employers. (8) Internal Revenue Service. (9) Military Records. (10) Physicians. (11) Psychiatrists. (12) References. (13) Police Reports. (14) Witnesses. (15) Federal Law Enforcement Agencies. (16) State Law Enforcement Agencies. (17) Local Law Enforcement Agencies. (18) State Regulatory Agencies. (19) Federal Regulatory Agencies. (20) Local Regulatory Agencies. (21) Chief Counsel's Opinions. (22) Regional Counsel's Opinions. (23) Chief Counsel's Memoranda. (24) Regional Counsel's Memoranda. (25) Field Investigation Reports. (26) Third Parties.

Exemptions claimed for the system:

Exempt under 5 U.S.C. 552a (k)(2). See 31 CFR 1.36.

Treasury/ATF .009

System name:

Technical and Scientific Services Record System-Treasury/ATF.

System location:

Bureau of Alcohol, Tobacco and Firearms, 650 Massachusetts Avenue, NW, Washington, DC 20226. Components of this record system are geographically dispersed throughout Bureau of Alcohol, Tobacco and Firearms' field offices. A list of field offices is available by writing to the Chief, Disclosure Division, Room 8400, 650 Pennsylvania Avenue, NW., Washington, DC 20226.

Categories of individuals covered by the system:

(1) Applicants to register firearms under the National Firearms Act. (2) Applicants for surplus military firearms under the Director of Civilian Marksmanship Program. (3) Importers of implements of war as defined under the Mutual Security Act of 1954 and the Arms Export Control Act of 1976. (4) Licensed importers registered under the Mutual Security Act of 1954 and the Arms Export Control Act of 1976. (5) Manufacturers of National Firearms Act who are exempt from payment of Special (Occupational) tax provisions. (6) Non-Bureau chemists certified to make analysis of alcoholic beverages. (7) Persons involved in explosives tagging and detection program. (8) Registered owners of National Firearms Act firearms. (9) Special (Occupational) taxpayers as defined under Title II of the Gun Control Act of 1968. (10) Victims of explosives. (11) Individuals involved in Government funded research projects.

Categories of records in the system:

(1) Alterations of registered National Firearms Act firearms. (2) Applications for surplus military firearms. (3) Applications to register firearms and destructive devices under the National Firearms Act. (4) Applications to import articles on the United States Munitions list. (5) Blueprints. (6) Certifications of payment of Special (occupational) tax payments. (7) Changes of address for owner of firearms registered under the National Firearms Act. (8) Claims for erroneous Special (Occupational) taxes payments. (9) Descriptions of Inventions. (10) Delinquency notices regarding proof of importation of National Firearms Act Firearms. (11) Explosive reports. (12) Non-Bureau chemists' statements of qualification. (13) Patent information. (14) Registrations of firearms and destructive devices under the National Firearms Act. (15) Registration of war trophy firearms. (16) Requests and authorizations for temporary movement and/or temporary storage of National Firearms Act firearms. (17) Technical and scientific data. (18) Transaction records concerning National Firearms Act firearms. (19) Trade secrets. (20) United States Government contracts to manufacturers of National Firearms Act firearms. (21) Chief Counsel and Regional Counsel memoranda and opinions.

Authority for maintenance of the system:

(1) 18 U.S.C. Chapter 40; (2) 18 U.S.C. Chapter 44; (3) 18 U.S.C. Section 3056; (4) 26 U.S.C. Sections 6001(a), 5001, 5008, 5009(a), 5006(a), 5021-5023, 5041, 5042(a)(2), 5051, 5053, 5056, 5062(c), 5705, 6201, 6423(b), 5105, 5106, 5131(c), 5132, 5172, 5172(b)(1), 5275, 5301(b), 5356, 5401, 5417, 5502(b), 5511(3), 5521(a), 5179(a), 5712, 7011; (5) 27 U.S.C. Sections 204(c); (6) 26 U.S.C. Chapter 35; (7) Executive Order 10973, as amended by Executive Order 11432.

Purpose(s):

The purpose of this system is to provide technical and scientific support and expertise to Criminal and Regulatory Enforcement activities of the Bureau; to other Federal, state, local and foreign law enforcement agencies; and to industries involved in activities regulated by the Bureau. When a criminal investigation results in a compilation of information contained in this system, the information so compiled shall be transferred to the ATF Criminal Investigation Report System and shall become a part of that system for all purposes of the Privacy Act of 1974.

Routine uses of records maintained in the system, including categories of users and the purposes of such uses:

A record in this system may be disclosed as a routine use to:

(1) Employees of other governmental agencies when required or authorized to be released by statute, regulations or Executive Order; (2) any third party to the extent necessary to collect or verify information pertinent to the Bureau's decision to grant, deny or revoke a license or permit; to initiate or complete an investigation of violations or alleged violations of laws and regulations administered by the Bureau; (3) appropriate Federal, state, local or foreign agencies, for the purpose of enforcing administrative, civil, criminal laws; hiring or retention of an employee; issuance of a security clearance, license, contract, grant or other benefit; (4) a court, magistrate, or administrative tribunal in the course of presenting evidence, including disclosures to opposing counsel or witnesses in the course of civil discovery, litigation, or settlement negotiations, in response to a subpoena, or in connection with criminal law proceedings; (5) INTERPOL and similar national and international intelligence gathering organizations for the purpose of identifying international and national criminals involved in consumer fraud, revenue evasion or crimes; (6) foreign governments in accordance with formal or informal international agreements; (7) appropriate Federal, state, local or foreign agencies responsible for investigating or prosecuting the violations of, or for enforcing or implementing, a statute, rule, regulation, order, or license, where the disclosing agency becomes aware of an indication of a violation or potential violation of civil or criminal law or regulation; (8) insurance companies making determinations regarding claims in cases that the Bureau has conducted or is conducting in an arson investigation; (9) a congressional office in response to an inquiry made at the request of the individual to whom the record pertains; (10) provide information to the news media in accordance with guidelines contained in 28 CFR 50.2 which relate to an agency's functions relating to civil and criminal proceedings.

Policies and practices for storing, retrieving, accessing, retaining, and disposing of records in the system:

Storage:

Active records stored in file folders and in electronic media.

Retrievability:

Records are retrievable by name, by unique identifier, control number, serial number of National Firearms Act firearms.

Safeguards:

Stored in file cabinets locked during non-duty hours. The records stored in electronic media are password protected.

Retention and disposal:

Records are retained in accordance with General Records Schedules numbers 1 through 20 issued by the National Archives and Records Administration, and Bureau of Alcohol, Tobacco and Firearms Records Control Schedules numbers 101 and 201 and disposed of by shredding or burning. Records stored on tape discs or on-line mass storage are disposed of by degaussing.

System manager(s) and address:

Assistant Director, Firearms Explosive & Arson; Assistant Director, Alcohol and Tobacco; Assistant Director, Field Operations; and Assistant Director, Science & Technology, Bureau of Alcohol, Tobacco and Firearms, 650 Massachusetts Avenue, NW, Washington, DC 20226.

Notification procedure:

The Director of the Bureau of Alcohol, Tobacco and Firearms has determined this system of records to be exempt from compliance with the provisions of U.S.C. 552a (e)(4)(G).

Record access procedures:

The Director of the Bureau of Alcohol, Tobacco and Firearms has determined this system of records to be exempt from compliance with the provisions of 5 U.S.C. 552a (e)(4)(H).

Contesting record procedures:

See “Record access procedures” above.

Record source categories:

(1) Individuals. (2) Companies. (3) Corporations. (4) Firearms Licensees. (5) Explosive Licensees. (6) Explosive Permittees. (7) Bureau personnel. (8) Federal law enforcement agencies. (9) State law enforcement agencies. (10) Local law enforcement agencies. (11) Foreign law enforcement agencies. (12) Federal Regulatory agencies. (13) State Regulatory agencies. (14) Local Regulatory agencies. (15) Non-Bureau Chemists.

Exemptions claimed for the system:

Exempt under 5 U.S.C. 552a (k)(2). See 31 CFR 1.36.

[FR Doc. 01-21736 Filed 8-29-01; 8:45 am]

BILLING CODE 4810-31-P